DEPARTMENT OF HOMELAND SECURITY

Transportation Security Administration

[Docket No. TSA-2006-24191]

Intent To Request Renewal From OMB of One Current Public Collection of Information: Transportation Worker Identification Credential (TWIC) Program

AGENCY: Transportation Security Administration, DHS.

ACTION: 60 Day Notice.

SUMMARY: The Transportation Security Administration (TSA) invites public comment on one currently approved information collection requirement, Office of Management and Budget (OMB) control number 1652-0047, abstracted below that we will submit to OMB for renewal in compliance with the Paperwork Reduction Act (PRA). The ICR describes the nature of the information collection and its expected burden. OMB approved the collection of information for six months and TSA now seeks the maximum three-year approval. The collection involves the submission of identifying and other information by individuals applying for a TWIC and a customer satisfaction survey.

DATES: Send your comments by June 27, 2011.

ADDRESSES: Comments may be e-mailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0047; Transportation Worker Identification Credential (TWIC) Program. TSA developed the Transportation Worker Identification Credential (TWIC) program to mitigate threats and vulnerabilities in the national transportation system. TWIC is a common credential for all personnel requiring unescorted access to secure areas of facilities and vessels regulated under the Maritime Transportation Security Act (MTSA) and all mariners holding U. S. Coast Guard credentials. Before issuing an individual a TWIC, TSA performs a security threat assessment, which requires TSA to collect certain personal information such as name, address, and date of birth. Applicants are also required to provide fingerprints and undergo a criminal history records check.

The program implements authorities set forth in the Aviation and Transportation Security Act (ATSA) (Pub. L. 107-71; Nov. 19, 2002; sec. 106), the Maritime Transportation Security Act of 2002 (MTSA) (Pub. L. 107-295; Nov. 25, 2002; sec. 102), and the Safe, Accountable, Flexible, Efficient Transportation Equity Act—A Legacy for Users (SAFETEA-LU) (Pub. L. 109-59; Aug. 10, 2005; sec. 7105), codified at 49 U.S.C. 5103a(g). TSA and the U. S. Coast Guard (Coast Guard) issued a joint notice of proposed rulemaking (NPRM) on May 22, 2006, 71 FR 29396. After consideration of public comments on the NPRM, TSA issued a joint final rule with the Coast Guard on January 25, 2007 (72 FR 3492), applicable to the maritime transportation sector that would require this information collection.

TSA collects data from applicants during an optional pre-enrollment step or during the enrollment session at an enrollment center. TSA will use the information collected to conduct a security threat assessment, which includes: (1) A criminal history records check; (2) a check of intelligence databases; and (3) an immigration status check. TSA invites all TWIC applicants to complete an optional survey to gather information on the applicants' overall customer satisfaction with the enrollment process. This optional survey is administered by a Trusted Agent (representative of the TWIC enrollment contractor, who performs enrollment functions) during the process to activate the TWIC. These surveys are collected at each enrollment center and compiled to produce reports that are reviewed by the contractor and TSA. The current estimated annualized reporting burden is 2,630,719 hours and the estimated annualized cost burden is $57,002,236.

Issued in Arlington, Virginia, on April 20, 2011.
Joanna Johnson,
TSA Paperwork Reduction Act Officer, Office of Information Technology.

[FR Doc. 2011-9982 Filed 4-25-11; 8:45 am]

BILLING CODE 9110-05-P